ENVIRONMENTAL PROTECTION AGENCY

40 CFR Parts 60, 63, and 241

[EPA-HQ-OAR-2002-0058; EPA-HQ-OAR-2006-0790; EPA-HQ-OAR-2003-0119; EPA-HQ-RCRA-2008-0329; FRL-9160-8]

RIN 2060-AG69, RIN 2060-AM44, RIN 2060-AO12, RIN 2050-AG44

National Emission Standards for Hazardous Air Pollutants for Major Sources: Industrial, Commercial, and Institutional Boilers and Process Heaters; National Emission Standards for Hazardous Air Pollutants for Area Sources: Industrial, Commercial, and Institutional Boilers; Standards of Performance for New Stationary Sources and Emission Guidelines for Existing Sources: Commercial and Industrial Solid Waste Incineration Units; Identification of Non-Hazardous Secondary Materials That Are Solid Waste

AGENCY: Environmental Protection Agency.

ACTION: Notice of public hearings and extension of public comment period.

SUMMARY: On April 29, 2010, the EPA Administrator signed proposed emission standards for the following source categories: Industrial, Commercial, and Institutional Boilers and Process Heaters located at major sources; Industrial, Commercial, and Institutional Boilers located at area sources; and Commercial and Industrial Solid Waste Incineration Units. On the same date, the Administrator also signed a proposal entitled “Identification of Non-Hazardous Secondary Materials That Are Solid Waste.” EPA has received a request to schedule additional public hearings for these four related rulemakings. Given the significant public interest in these rules and to further public participation opportunities, EPA is granting the request and has scheduled three public hearings. These hearings will occur in Arlington, Virginia, on June 15, 2010; Houston, Texas, on June 22, 2010; and Los Angeles, California, on June 22, 2010. More information on the locations is shown in SUPPLEMENTARY INFORMATION.

In addition, EPA is extending the deadline for written comments on the proposed rules (75 FR 32006 (major source boilers), 75 FR 31896 (area source boilers), 75 FR 31938 (CISWI), and 75 FR 31844 (waste definition)) to August 3, 2010. This extension will provide additional time for public participation.

DATES: Comments. Comments must be received on or before August 3, 2010.

Public Hearings. These hearings will occur in Arlington, Virginia, on June 15, 2010; Houston, Texas, on June 22, 2010; and Los Angeles, California, on June 22, 2010. Persons who wish to present oral testimony at the public hearings must register 2 business days prior to the hearings. The last day to register will be June 11, 2010, for the Arlington, Virginia, hearing and June 18, 2010, for the Houston, Texas, and Los Angeles, California, hearings. The registration cut-off time is 5 p.m. EDT on the final day of registration. See SUPPLEMENTARY INFORMATION for information on how to register. Note that the preregistration requirement only applies if you wish to present testimony.

ADDRESSES: Submit your comments, identified by one of the following Docket ID Nos., EPA-HQ-OAR-2002-0058 (Industrial, Commercial, and Institutional Boilers and Process Heaters located at major sources), EPA-HQ-OAR-2006-0790 (Industrial, Commercial, and Institutional Boilers located at area sources), EPA-HQ-OAR-2003-0119 (Commercial and Industrial Solid Waste Incineration Units), or EPA-HQ-RCRA-2008-0329 (Identification of Non-Hazardous Secondary Materials That Are Solid Waste), by one of the following methods:

• http://www.regulations.gov: Follow the on-line instructions for submitting comments.

• E-mail: a-and-r-docket@epa.gov.

• Fax: (202) 566-9744.

• Mail: U.S. Postal Service, send comments to: EPA Docket Center (6102T), 1200 Pennsylvania Ave., NW., Washington, DC 20460. Please include as the second line of the address the name of the proposal that you are commenting on and the Docket ID No. Please include a total of two copies.

• Hand Delivery: In person or by courier, deliver comments to: EPA Docket Center (6102T), EPA West, Room 3334, 1301 Constitution Avenue, NW., Washington, DC 20004. Please include as the second line of the address the name of the proposal that you are commenting on and the Docket ID No. Such deliveries are only accepted during the Docket's normal hours of operation, and special arrangements should be made for deliveries of boxed information. Please include a total of two copies.

Instructions: Direct your comments to one of the following Docket ID Nos.: EPA-HQ-OAR-2002-0058, EPA-HQ-OAR-2006-0790, EPA-HQ-OAR-2003-0119, or EPA-HQ-RCRA-2008-0329. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA Docket Center, EPA West, Room 3334, 1301 Constitution Ave., NW., Washington, DC. The Public Reading Room is open from 8:30 a.m. to 4:30 p.m., Monday through Friday, excluding legal holidays. The telephone number for the Public Reading Room is (202) 566-1744, and the telephone number for the Docket Center is (202) 566-1742.

FOR FURTHER INFORMATION CONTACT: If you would like to speak at the public hearing or have questions concerning the public hearing, please contact Ms. Teresa Clemons at the address given below under SUPPLEMENTARY INFORMATION. Questions concerning the proposed rules should be addressed to one the following contacts:

For major source boilers and process heaters, Mr. Brian Shrager, Office of Air Quality Planning and Standards, Sector Policies and Programs Division, Energy Strategies Group (D243-01), Environmental Protection Agency, Research Triangle Park, NC 27711, telephone number: (919) 541-7689; fax number: (919) 541-5450; e-mail address: shrager.brian@epa.gov.

For area source boilers, Ms. Mary Johnson, Office of Air Quality Planning and Standards, Sector Policies and Programs Division, Energy Strategies Group (D243-01), Environmental Protection Agency, Research Triangle Park, NC 27711, telephone number: (919) 541-5025; fax number: (919) 541-5450; e-mail address: johnson.mary@epa.gov.

For commercial and industrial solid waste incineration units, Ms. Charlene Spells, Natural Resources and Commerce Group, Sector Policies and Programs Division (E143-03), Environmental Protection Agency, Research Triangle Park, North Carolina 27711; telephone number: (919) 541-5255; fax number: (919) 541-3470; e-mail address: spells.charlene@epa.gov or Ms. Toni Jones, Natural Resources and Commerce Group, Sector Policies and Programs Division (E143-03), Environmental Protection Agency, Research Triangle Park, North Carolina 27711; telephone number: (919) 541-0316; fax number: (919) 541-3470; e-mail address: jones.toni@epa.gov.

For Identification of Non-Hazardous Secondary Materials That Are Solid Waste, Mr. George Faison, Program Implementation and Information Division, Office of Resource Conservation and Recovery, 5303P, Environmental Protection Agency, Ariel Rios Building, 1200 Pennsylvania Avenue, NW., Washington, DC 20460-0002; telephone number: 703-305-7652; fax number: 703-308-0509; e-mail address: faison.george@epa.gov.

SUPPLEMENTARY INFORMATION:

Public Hearing

The public hearing will provide interested parties the opportunity to present data, views, or arguments concerning the proposed rules. EPA may ask clarifying questions during the oral presentations, but will not respond formally to the presentations at that time. Written statements and supporting information submitted during the comment period will be considered with the same weight as any oral comments and supporting information presented at the public hearings. Written comments must be postmarked by the last day of the comment period, August 3, 2010.

The public hearings will be held at the following times and locations:

Arlington, VA—June 15, 2010, Crystal City Marriott, 1999 Jefferson Davis Highway, Arlington, VA 22202, Phone: (703) 920-3230,

Houston, TX—June 22, 2010, Hilton Houston Hobby Airport, 8181 Airport Boulevard, Houston, Texas 77061-4142, Phone: (713) 645-3000,

Los Angeles, CA—June 22, 2010, Sheraton Los Angeles Downtown Hotel, 711 South Hope Street, Los Angeles, CA 90017, Phone: (213) 488-3500.

The public hearings will begin at 9 a.m. and continue into the evening until 8 p.m. (local time) or later, if necessary, depending on the number of speakers wishing to participate. EPA is scheduling lunch breaks from 12:30 p.m. until 2 p.m. and dinner breaks from 5 p.m. to 6:30 p.m.

If you would like to present oral testimony at the hearings, please notify Ms. Teresa Clemons, EPA, Office of Air Quality Planning and Standards, Sector Policies and Programs Division, Program Design Group (D205-02), Research Triangle Park, NC 27711, telephone number 919-541-0252, e-mail address: clemons.teresa@epa.gov (preferred method for registering). If using e-mail, please provide the following information: Time you wish to speak (morning, afternoon, evening), rule(s) that you will be commenting on, name, affiliation, address, e-mail address, and telephone and fax numbers.

EPA will make every effort to follow the schedule as closely as possible on the day of the hearings; however, please plan for the hearing to run either ahead of schedule or behind schedule. As noted above registration closes at 5 p.m. EDT 2 business days prior to each public hearing.

Oral testimony will be limited to 6 minutes for each commenter to address the proposal. We will not be providing equipment for commenters to show overhead slides or make computerized slide presentations. EPA encourages commenters to provide two copies of their oral testimony either electronically on computer disk, CD-ROM, or paper copy. The hearing schedule, including a list of speakers, will be posted on EPA's Web site for the proposal at http://www.epa.gov/airquality/combustion prior to the hearing. Verbatim transcripts of the hearings and written statements will be included in the rulemaking docket.

Comment Period

Written statements and supporting information submitted during the comment period will be considered with the same weight as any oral comments and supporting information presented at the public hearing. For the reasons noted above, the public comment period will now end on August 3, 2010. This extension of the public comment period will also allow for adequate time for public comment after the public hearings.

How can I get copies of the proposed rules and other related information?

The proposed rules were published on June 4, 2010, and can be accessed at the following Web site: http://www.epa.gov/airquality/combustion. EPA has established the public dockets for the proposed rulemakings under docket ID Nos. EPA-HQ-OAR-2002-0058, EPA-HQ-OAR-2006-0790, EPA-HQ-OAR-2003-0119, and EPA-HQ-RCRA-2008-0329, and a copy of the proposed rules are available in the dockets. Information on how to access the docket is presented above in the ADDRESSES section.

List of Subjects in 40 CFR Part 63

Environmental protection, Administrative practice and procedure, Air pollution control, Hazardous substances, Incorporation by reference, Intergovernmental relations, Reporting and recordkeeping requirements.

Dated: June 4, 2010.
Gina McCarthy,
Assistant Administrator, Office of Air and Radiation.

[FR Doc. 2010-13877 Filed 6-8-10; 8:45 am]

BILLING CODE 6560-50-P